DEPARTMENT OF COMMERCE

International Trade Administration

A-570-851

Certain Preserved Mushrooms from the People's Republic of China: Notice of Final Results of the Eighth New Shipper Review

AGENCY: Import Administration, International Trade Administration, Department of Commerce.

EFFECTIVE DATE: October 19, 2005.

SUMMARY: On July 21, 2005, the U.S. Department of Commerce (“Department”) published the preliminary results of the eighth new shipper review of the antidumping order on certain preserved mushrooms from the People's Republic of China (“PRC”) (70 FR 42034) (July 21, 2005) (“Preliminary Results”). This review covers one exporter, Blue Field (Sichuan) Food Industrial Co., Ltd. (“Blue Field”). The period of review (“POR”) is February 1, 2004, through July 31, 2004. Based on our analysis of the record, we have made minor changes to the margin calculation of the producer/exporter as described below. See “Final Results of Review” section below.

FOR FURTHER INFORMATION CONTACT: Stephen F. Berlinguette or Christopher D. Riker, AD/CVD Operations, Office 9, Import Administration, International Trade Administration, U.S. Department of Commerce, 1401 Constitution Avenue NW, Washington, DC 20230; telephone: (202) 482-3740 or (202) 482-3441, respectively.

SUPPLEMENTARY INFORMATION:

Background

We invited parties to comment on the Preliminary Results. Neither the Coalition for Fair Preserved Mushroom Trade (“petitioners”) nor Blue Field submitted case briefs after the publication of the Preliminary Results. Neither party requested a public hearing. On July 28, 2005, Blue Field submitted comments on the surrogate values the Department used in the Preliminary Results.

Scope of the Order

The products covered by this order are certain preserved mushrooms whether imported whole, sliced, diced, or as stems and pieces. The preserved mushrooms covered under this order are the species Agaricus bisporus and Agaricus bitorquis. “Preserved mushrooms” refer to mushrooms that have been prepared or preserved by cleaning, blanching, and sometimes slicing or cutting. These mushrooms are then packed and heated in containers including, but not limited to, cans or glass jars in a suitable liquid medium, including, but not limited to, water, brine, butter or butter sauce. Preserved mushrooms may be imported whole, sliced, diced, or as stems and pieces. Included within the scope of this order are “brined” mushrooms, which are pre-salted and packed in a heavy salt solution to provisionally preserve them for further processing.

Excluded from the scope of this order are the following: (1) all other species of mushrooms, including straw mushrooms; (2) all fresh and chilled mushrooms, including “refrigerated” or “quick blanched mushrooms”; (3) dried mushrooms; (4) frozen mushrooms; and (5) “marinated,” “acidified,” or “pickled” mushrooms, which are prepared or preserved by means of vinegar or acetic acid, but may contain oil or other additives.¹

¹ On June 19, 2000, the Department affirmed that “marinated,” “acidified,” or “pickled” mushrooms containing less than 0.5 percent acetic acid are within the scope of the antidumping duty order. See “Recommendation Memorandum-Final Ruling of Request by Tak Fat, et al. for Exclusion of Certain Marinated, Acidified Mushrooms from the Scope of the Antidumping Duty Order on Certain Preserved Mushrooms from the People's Republic of China,” dated June 19, 2000. The Department's scope determination was affirmed by the Court of Appeals for the Federal Circuit in Tak Fat Trading Company, et. al. v. United States, et. al., 396 F.3d 1378 (Fed. Cir., 2005).

The merchandise subject to this order is currently classifiable under subheadings: 2003.10.0127, 2003.10.0131, 2003.10.0137, 2003.10.0143, 2003.10.0147, 2003.10.0153 and 0711.51.0000 of the Harmonized Tariff Schedule of the United States (“HTSUS”). Although the HTSUS subheadings are provided for convenience and customs purposes, the written description of the scope of this order is dispositive.

Analysis of Comments Received

Neither the petitioners nor the respondent submitted case or rebuttal briefs after the publication of the Preliminary Results. Blue Field's July 28, 2005, submission did, however, provide comments on the Department's surrogate value calculations for tin plate, labor, and factory overhead, SG&A, and profit ratios. For a detailed discussion of this submission, see the Issues and Decision Memorandum, dated October 12, 2005, which is hereby adopted by this notice. A list of the issues discussed in the Issues and Decision Memorandum is attached to this notice as an Appendix. The Issues and Decision Memorandum is a public document that is on file in the Central Records Unit (“CRU”), room B-099 in the main Department building, and can be accessed online at http://ia.ita.doc.gov/frn. The paper copy and electronic version of the Issues and Decision Memorandum are identical in content.

Changes Since the Preliminary Results

Since the publication of the Preliminary Results, the Department's surrogate values for tin plate and labor have changed. Additionally, the Department has made changes to the surrogate factory overhead, selling, general, and administrative (“SG&A”) expense, and profit ratios utilized in the Preliminary Results. (See Issues and Decisions Memorandum.)

Final Results of New Shipper Reviews

We determine that the following antidumping margin percentage existed during the period February 1, 2004, through July 31, 2004:

Exporter | Producer | Margin (percent)
Blue Field (Sichuan) Food Industrial Co., Ltd. | Blue Field (Sichuan) Food Industrial Co., Ltd. | 0.00

Assessment of Antidumping Duties

The Department shall determine, and U.S. Customs and Border Protection (“CBP”) shall assess, antidumping duties on all appropriate entries. Pursuant to 19 CFR 351.212(b)(1), we calculated importer or customer specific ad valorem duty assessment rates based on the ratio of the total amount of the dumping margins calculated for the examined sales to the total entered value of those same sales. In accordance with 19 CFR 351.106(c)(2), we will instruct CBP to liquidate without regard to antidumping duties all entries of subject merchandise during the POR for which the importer or customer specific assessment rate is zero or de minimis (i.e., less than 0.50 percent). The Department will issue appropriate assessment instructions directly to CBP within 15 days of publication of the final results of these reviews.

Cash Deposit Requirements

Bonding will no longer be permitted to fulfill security requirements for shipments from Blue Field of certain preserved mushrooms from the PRC entered, or withdrawn from warehouse, for consumption in the United States on or after the publication of this notice in the Federal Register. The cash deposit rate shall be required for merchandise subject to the order, entered or withdrawn from warehouse for consumption on or after the publication date of these final results for this new shipper review, as provided for by section 751(a)(1) of the Tariff Act of 1930, as amended: (1) The cash deposit rates for Blue Field (i.e., for subject merchandise both manufactured and exported by Blue Field) will be zero; (2) the cash deposit rate for PRC exporters who received a separate rate in a prior segment of the proceeding will continue to be the rate assigned in that segment of the proceeding; (3) the cash deposit rate for the PRC entity and for subject merchandise exported by Blue Field, but not manufactured by Blue Field, will continue to be the PRC-wide rate (i.e., 198.63 percent); and (4) the cash deposit rate for non-PRC exporters of subject merchandise from the PRC will be the rate applicable to the PRC exporter that supplied that non-PRC exporter. These deposit requirements shall remain in effect until publication of the final results of the next administrative review. There are no changes to the rates applicable to any other companies under this antidumping duty order.

Notification to Interested Parties

The Department will disclose calculations performed in connection with these final results of review within five days of the date of publication of this notice in accordance with 19 CFR 351.224(b). This notice serves as a final reminder to importers of their responsibility under 19 CFR 351.402(f) to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (“APO”) of their responsibility concerning the disposition of proprietary information disclosed under APO in accordance with section 351.305(a)(3) of the Department's regulations. Timely written notification of the return/destruction of APO materials or conversion to judicial protective order is hereby requested. Failure to comply with the regulations and the terms of an APO is a punishable violation.

The final results of this new shipper review and notice are published in accordance with sections 751(a)(2)(B) and 777(i)(1) of the Act.

Dated: October 12, 2005.
Joseph A. Spetrini,
Acting Assistant Secretary for Import Administration.

Appendix I

Issues in the Decision Memorandum

Comment 1:Appropriate surrogate value for tin plate

Comment 2:The Department should not adjust the surrogate labor rate for inflation

Comment 3:The Department should revise mistakes made in its surrogate factory overhead, SG&A, and profit ratio calculations

[FR Doc. E5-5776 Filed 10-18-05; 8:45 am]

BILLING CODE 3510-DS-S